GENERAL SERVICES ADMINISTRATION

[Notice-ME-2023-01; Docket No. 2023-0002; Sequence No. 6]

Notice of High-Performance Computing (HPC) Summit

AGENCY: Office of Government-wide Policy (OGP), General Services Administration (GSA).

ACTION: Virtual webinar meeting notice.

SUMMARY: GSA is hosting a virtual High-Performance Computing (HPC) Summit to bring together the Federal and industry communities for a series of panel discussions covering HPC implementation progress, opportunities, and best practices.

DATES: The meeting date is scheduled for Thursday, April 20, 2023.

ADDRESSES: This is a virtual event. The call-in information will be made available upon registration. All attendees, including industry partners, must register for the Zoom.Gov event here: https://gsa.zoomgov.com/webinar/register/WN_rIfNxEkdToWco5S2irse8w. Members of the press are invited to attend but are required to register with the GSA press office (via email press@gsa.gov) by Thursday, April 13, 2023.

FOR FURTHER INFORMATION CONTACT: Tom Santucci at thomas.santucci@gsa.gov or 202-230-4822 or Lee Ellis at lee.ellis@gsa.gov or 202-253-6448.

SUPPLEMENTARY INFORMATION:

Background

The Executive Office of the President issued Executive Order (E.O.) 13702, titled, “Creating a National Strategic Computing Initiative” (80 FR 46177), and located at: https://www.govinfo.gov/content/pkg/FR-2015-08-03/pdf/2015-19183.pdf, in August 2015 to maximize the benefits of High-Performance Computing (HPC). The potential opportunities of implementing HPC include improving economic competitiveness and accelerating scientific research. The E.O. includes the following five strategic objectives for supporting the implementation of HPC across all Federal information systems and services:

(1) The United States must deploy and apply new HPC technologies broadly for economic competitiveness and scientific discovery.

(2) The United States must foster public-private collaboration, relying on the respective strengths of government, industry, and academia to maximize the benefits of HPC.

(3) The United States must adopt a whole-of-government approach that draws upon the strengths of and seeks cooperation among all executive departments and agencies with significant expertise or equities in HPC while also collaborating with industry and academia.

(4) The United States must develop a comprehensive technical and scientific approach to transition HPC research on hardware, system software, development tools, and applications efficiently into development and, ultimately, operations.

More recently, agencies, such as the National Institute of Standards and Technology (NIST), have continued developing guidance and prioritizing HPC to combat growing cybersecurity threats. NIST Publication SP 800-23, https://csrc.nist.gov/publications/detail/sp/800-223/draft, released in February 2023 as a draft, discusses HPC system threat analysis, security postures, challenges, and recommendations. The typical information technology (IT) practitioner knows very little about HPC. This summit will provide IT practitioners of any skill level with practical knowledge and insight into HPC as both an industry and a service, as well as how the Federal Government can use HPC now and in the future.

Additional legislation, such as the bipartisan CHIPS Act of 2022, provides additional funding for both HPC research and development, as well as the standup of government programs on HPC at various agencies. The combination of Executive Orders, policies, and legislation create a comprehensive framework for the Federal Government to prioritize the adoption of High-Performance Computing to advance key IT Modernization efforts.

Format

The High-Performance Computing (HPC) Summit convenes leaders from the Federal Government and industry to discuss their experiences and exposures to HPC. If you have questions for the panelists, you can email them to the GSA Office of Government-wide Policy (OGP) IT Modernization Team at dccoi@gsa.gov by Thursday, April 13, 2023.

Special Accommodations

Zoom will have the option to enable closed captioning. If additional accommodations are needed, please indicate on the Zoom Webinar registration form.

Live Webinar Speakers (Subject To Change Without Notice)

Hosted by:

• Tom Santucci, Director, IT Modernization; Office of Government-wide Policy

• Robert Sears, Director, N-Wave, National Oceanic and Atmospheric Administration; Office of Chief Information Officer (CIO)

• Gordon Bitko, Executive Vice President of Policy, Public Sector, Information Technology Industry Council (ITIC)

• CIO Council Innovation Committee, tri-chaired by Ann Dunkin, CIO, Department of Energy; Chris Brazier, Chief Technology Officer & Mission IT Infrastructure & Services Department Chief, Defense Threat Reduction Agency; Chezian Sivagnanam, Chief Architect, Federal Deposit Insurance Corporation

Agenda Topic Areas

• Public Policy

• Science and CHIPS Act

• Climate

• Energy

• Biomedical

• Military

Thomas Santucci,
Director, IT Modernization, General Services Administration, Office of Government-wide Policy, Division of IT Modernization.

[FR Doc. 2023-03563 Filed 2-21-23; 8:45 am]

BILLING CODE 6820-14-P